DEPARTMENT OF TRANSPORTATION

Surface Transportation Board

[STB Finance Docket No. 34116]

Union Pacific Railroad Company—Trackage Rights Exemption—Chicago, Central & Pacific Railroad Company

Union Pacific Railroad Company (UP) and Chicago, Central & Pacific Railroad Company (CCP) have agreed to modify the compensation terms of an existing trackage rights agreement, dated July 6, 1887, as supplemented and amended, covering trackage rights CCP previously granted to UP over its rail line between CCP milepost 484.9 near LeMars, IA, and CCP milepost 509.0 near Sioux City, IA.

The transaction was scheduled to become effective on October 30, 2001.

As a condition to this exemption, any employees affected by the transaction will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34116, must be filed with the Surface Transportation Board, Office of the Secretary, Case Control Unit, 1925 K Street, NW., Washington, DC 20423-0001. In addition, one copy of each pleading must be served on Robert T. Opal, General Commerce Counsel, 1416 Dodge Street, Room 830, Omaha, NE 68179.

Board decisions and notices are available on our website at “WWW.STB.DOT.GOV.”

Decided: October 31, 2001.
By the Board, David M. Konschnik, Director, Office of Proceedings.
Vernon A. Williams,
Secretary.

[FR Doc. 01-27824 Filed 11-6-01; 8:45 am]

BILLING CODE 4915-00-P